DEPARTMENT OF DEFENSE

Department of the Army

Army Science Board; Notice of Partially Closed Meeting

In accordance with section 10(a)(2) of the Federal Advisory Committee Act (Pub. L. 92-463), announcement is made of the following Committee Meeting.

Name of Committee: Army Science Board (ASB), Objective Force Soldier.

Date of Meeting: May 16-17, 2001.

Time of Meeting: 0800-1700 (both days).

Place: Fort Bragg, NC.

Agenda: The Army Science Board's (ASB) Summer Study on “Objective Force Soldier/Soldier Systems” will meet for panel discussions and report preparation (day one) and study-related site visits of Fort Bragg (day two). The first day of meetings (May 16) will be open to the public. The site visits, due to their classified portions, will be closed to the public in accordance with section 552b(c) of Title 5, U.S.C., specifically subparagraph (1) thereof, and Title 5, U.S.C. Appendix 2, subsection 10(d). For further information, please contact Mr. Mike Hendricks, Lead Staff Assistant on 703-617-7048.

Wayne Joyner,
Executive Assistant, Army Science Board.

[FR Doc. 01-11115 Filed 5-2-01; 8:45 am]

BILLING CODE 3710-08-M